DEPARTMENT OF THE INTERIOR

National Park Service

[NPS-PWR-KAHO-21055; PPPWKAHOS0, PPMPSPD1Z.S00000]

Request for Nominations for the Na Hoa Pili O Kaloko-Honokohau National Historical Park Advisory Commission

AGENCY: National Park Service, Interior.

ACTION: Request for nominations.

SUMMARY: The National Park Service, U.S. Department of the Interior, proposes to appoint new members to the Na Hoa Pili O Kaloko-Honokohau (The Friends of Kaloko-Honokohau) (Commission), an advisory commission for Kaloko-Honokohau National Historical Park (Park). The Superintendent of the Park, acting as administrative lead, is requesting nominations for qualified persons to serve as members of the Commission.

DATES: Nominations must be postmarked by September 22, 2016.

ADDRESSES: Nominations should be sent to Tammy Duchesne, Superintendent, Kaloko-Honokohau National Historical Park, 73-4786 Kanalani Street, Suite #14, Kailua-Kona, HI 96740.

FOR FURTHER INFORMATION CONTACT: Jeff Zimpfer, National Park Service, Environmental Protection Specialist, Kaloko-Honokohau National Historical Park, 73-4786 Kanalani St., #14, Kailua Kona, HI 96740, telephone number (808) 329-6881, ext. 1500, or email jeff_zimpfer@nps.gov.

SUPPLEMENTARY INFORMATION: The Park was established by Section 505(a) of Public Law 95-625, November 10, 1978, and the Commission was established by Section 505(f) of that same law. The Commission was re-established by Title VII, Subtitle E, Section 7401 of Public Law 111-11, the Omnibus Public Land Management Act of 2009, March 30, 2009. The Commission's current termination date is December 18, 2018.

The purpose of the Commission is to advise the Director of the National Park Service with respect to the historical, archeological, cultural, and interpretive programs of the Park. The Commission is to afford particular emphasis to the quality of traditional native Hawaiian cultural practices demonstrated in the Park.

The Commission consists of nine members, each appointed by the Secretary of the Interior, and four ex officio non-voting members. All nine members of the Commission must be residents of the State of Hawaii, and at least six of those appointees must be native Hawaiians. Native Hawaiians are defined as any lineal descendants of the race inhabiting the Hawaiian Islands prior to the year 1778. At least five members must be appointed from nominations provided by native Hawaiian organizations. The four ex officio members include the Park Superintendent, the Manager, Pacific Islands Office, Pacific West Region Honolulu Office, one person appointed by the Governor of Hawaii, and one person appointed by the Mayor of the County of Hawaii.

The Commission's nine voting members are appointed for five-year terms. No member may serve more than one term consecutively. The Secretary of the Interior designates one member of the Commission to be Chairman.

We are currently seeking nominations provided by native Hawaiian organizations.

Nominations should be typed and must include a resume providing an adequate description of the nominee's qualifications, including information that would enable the Department of the Interior to make an informed decision regarding meeting the membership requirements of the Commission and permit the Department of the Interior to contact a potential member.

Members of the Commission serve without compensation. However, while away from their homes or regular places of business in the performance of services for the Commission as approved by the Designated Federal Officer, members are allowed travel expenses, including per diem in lieu of subsistence, in the same manner as persons employed intermittently in Government service are allowed such expenses under 5 U.S.C. 5703.

Individuals who are Federally registered lobbyists are ineligible to serve on all Federal Advisory Committee Act (FACA) and non-FACA boards, committees, or councils in an individual capacity. The term “individual capacity” refers to individuals who are appointed to exercise their own individual best judgment on behalf of the government, such as when they are designated Special Government Employees, rather than being appointed to represent a particular interest.

All nominations must be compiled and submitted in one complete package. Incomplete submissions (missing one or more of the items described above) will not be considered.

Alma Ripps,
Chief, Office of Policy.

[FR Doc. 2016-20083 Filed 8-22-16; 8:45 am]

BILLING CODE 4310-EE-P